DEPARTMENT OF HEALTH AND HUMAN SERVICES

Administration for Children and Families

Administration for Developmental Disabilities

Award To: Oregon Health & Science University, Child Development & Rehabilitation Center.

Purpose: To supplement a grant award for support of “Making It Real: Participatory Action Research (PAR) for University Centers for Excellence in Developmental Disabilities (UCEDDs)”.

Amount of Award: $65,000 for one year.

Project Period: 7/1/2006—6/30/2007.

Justification for Exception to Competition: After consulting with relevant, informed sources, including individuals with developmental disabilities and their families, the Administration for Developmental Disabilities (ADD) determined that it was beneficial to continue funding the Oregon Health & Science University, Child Development & Rehabilitation Center project to strengthen and expand the inclusion of people with developmental disabilities and their family members in participatory action research projects at University Centers for Excellence in Developmental Disabilities (UCEDDs).

The Oregon Institute on Disability & Development, the Oregon Health and Science University, Child Development and Rehabilitation Center will receive a sole source program expansion supplemental grant for “Making It Real: Participatory Action Research (PAR) for UCEDDs,” a training initiative on the critical and emerging needs of individuals with developmental disabilities and their families. Through the project, a tool kit is being created that will include tested educational modules on participatory action research. Through the creation of the toolkit, every UCEDD will be able to access resources that will enhance and increase PAR and support initiatives that are most meaningful to people with developmental disabilities and their families. It will also be available to individuals with developmental disabilities, family members, advocacy groups, and other interested organizations. By continuing funding of this project, additional resources will be developed, including materials in Spanish. In addition, the expansion supplement will allow for more time and resources to enhance training and dissemination efforts.

The Administration for Children and Families intends to supplement the current grant by $65,000. The grantee will continue to provide a 25 percent match.

FOR FURTHER INFORMATION CONTACT: Jennifer G. Johnson, Ed.D., Program Specialist, Administration on Developmental Disabilities, 200 Independence Avenue, SW., Room 405-D, Washington, DC 20201. Telephone: 202/690-5982 (v); 202/205-8037 (f). E-mail: jennifer.johnson@acf.hhs.gov.

Dated: June 21, 2006.
Patricia A. Morrissey,
Commissioner, Administration for Developmental Disabilities.

[FR Doc. E6-10578 Filed 7-6-06; 8:45 am]

BILLING CODE 4184-01-P